DEPARTMENT OF THE INTERIOR

National Park Service

National Capital Memorial Advisory Commission; Notice of Public Meeting

AGENCY: Department of the Interior, National Park Service.

ACTION: Notice of meeting.

SUMMARY: Notice is hereby given that a meeting of the National Capital Memorial Advisory Commission (the Commission) will be held on Tuesday, February 26, 2008, at 1:30 p.m., at the National Building Museum, Room 312, 401 F Street, NW., Washington, DC.

The purpose of the meeting will be to discuss currently authorized and proposed memorials in the District of Columbia and its environs. In addition to discussing general matters and conducting routine business, the Commission will review the status of legislative proposals introduced in the 110th Congress to establish memorials in the District of Columbia and its environs, as follows:

Action Items

(1) Legislation currently under consideration by the 110th Congress.

(a) H.R. 3707, a bill to authorize the establishment of a memorial to all victims of terrorism.

(b) H.R. 3935, to extend the time limit of the authority of the Frederick Douglass Gardens, Inc., to establish a memorial and gardens on Department of the Interior lands in the District of Columbia or its environs in honor and commemoration of Frederick Douglass, and for other purposes.

(2) Alternative Sites Study, Memorial to Victims of Ukraine Famine Genocide.

Informational Items

Status of Legislation under consideration in the 110th Congress.

Other Business

(1) General matters and routine business.

The meeting will be open to the public. Any person may file with the Commission a written statement concerning the matters to be discussed. Persons who wish to file a written statement or testify at the meeting or who want further information concerning the meeting may contact Ms. Nancy Young, Secretary to the Commission.

DATES: Tuesday, February 26, 2008.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The Commission was established by Public Law 99-652, the Commemorative Works Act (40 U.S.C. Chapter 89 et seq.), to advise the Secretary of the Interior (the Secretary) and the Administrator, General Services Administration (the Administrator), on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service

Administrator, General Services Administration

Chairman, National Capital Planning Commission

Chairman, Commission of Fine Arts

Mayor of the District of Columbia

Architect of the Capitol

Chairman, American Battle Monuments Commission

Secretary of Defense

Dated: December 14, 2007.
Joseph M. Lawler,
Regional Director, National Capital Region.

[FR Doc. E8-1387 Filed 1-25-08; 8:45 am]

BILLING CODE 4312-JK-P